DEPARTMENT OF COMMERCE

Census Bureau

2005 Census Survey of Maricopa County, AZ (CSMA)

ACTION: Proposed collection; comment request.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: Written comments must be submitted on or before January 18, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Ronald Dopkowski, (301) 763-3801, Census Bureau, Room 3356-3, Mail Stop 8400, Washington, DC 20233.

SUPPLEMENTARY INFORMATION:

I. Abstract

The Maricopa Association of Governments (MAG) requested the U.S. Census Bureau to conduct the CSMA to provide estimates for September 1, 2005 for Maricopa County, 24 designated jurisdictions, 5 sub-areas for Phoenix, Arizona, 2 sub-areas for Mesa, Arizona, and the balance of county. The estimates are:

Total resident population;

Total resident population living in housing units;

Total resident population not living in housing units;

Total housing units; and

Total occupied housing units.

The MAG requested that we produce the above estimates by a survey of housing units and a 100 percent enumeration of the non-housing unit population. The MAG will use the estimates for revenue sharing purposes. The Arizona State Legislature enacted legislation that allows the use of survey estimates for revenue sharing.

The Census Bureau will not certify the estimates nor will we use the estimates in our official population estimates program.

The housing unit survey will produce the estimates for resident population in housing units, housing units, and occupied housing units. We will contact each identified group quarters and visit outdoor locations to obtain the resident population not living in housing units. We will sum the two resident populations to produce the total number of residents.

Each housing unit will be asked one to three questions to determine whether it was occupied on September 1, 2005. If it was occupied, we will ask for the total number of people living in the housing unit and for each person's name, age, and sex. Although we will ask for the names, age, and sex of each household member in order to provide a more accurate count of residents, we will not report this information to the Maricopa County Association of Governments. We will ask each group quarters for its number of residents on the day we contact it. We will count the number of people at each outdoor location on the day we visit it.

II. Method of Collection

We will use a combination of mail, computer-assisted telephone interviewing, and personal visit interviewing to collect the information for each housing unit. Enumerators will telephone or visit the group quarters to obtain the number of residents.

III. Data

OMB Number: None.

Form Number: CSMA-1, CSMA-1(PV), and SC-116.

Type of Review: Regular.

Affected Public: Individuals or households, business or other for profit entities, and not-for-profit institutions.

Estimated Number of Respondents: 114,380 housing units; 1,275 group quarters.

Estimated Time Per Response: 5 minutes per housing unit; 10 minutes per group quarters.

Estimated Total Annual Burden Hours: 9,532 hours for housing units; 213 for group quarters.

Estimated Total Annual Cost: There are no costs to respondents other than that of their time to respond.

Respondent's Obligation: Voluntary.

Legal Authority: Title 13, United States Code, Section 8.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget approval of this information collection; they also will become a matter of public record.

Dated: November 9, 2004.
Madeleine Clayton,
Management Analyst, Office of the Chief Information Officer.

[FR Doc. 04-25371 Filed 11-15-04; 8:45 am]

BILLING CODE 3510-07-P